DEPARTMENT OF THE INTERIOR

Bureau of Land Management

[CO-600-1120-PI-241A]

Notice of Meeting, Southwest Resource Advisory Council (Colorado)

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Southwest Resource Advisory Council (RAC), will meet as indicated below.

DATES: The meeting will be held on December 12, 2003, at the Ridgeway State Park Headquarters, 28555 U.S. Highway 550, Ridgeway, Colorado and will begin at 9 a.m. The public comment periods will be at 9:30 a.m. and 3 p.m.

SUPPLEMENTARY INFORMATION: The 15 member Council advises the Secretary of the Interior, through the Bureau of Land Management, on a variety of planning and management issues associated with public land management in Southwest, Colorado. Planned agenda topics include:

Manager reports

Public Comment

Discussion of Old Business

Discussion of Energy Development Impacts on Local Communities

All meetings are open to the public. The public can make oral statements to the Council at 9:30 a.m. and 3 p.m. or written statements may be submitted for the Councils consideration. Depending on the number of persons wishing to comment and time available, the time for individual oral comments may be limited. Summary minutes for the Council Meeting will be maintained in the Western Slope Center Office and will be available for public inspection and reproduction during regular business hours within thirty (30) days following the meeting.

FOR FURTHER INFORMATION CONTACT: Bureau of Land Management (BLM), Western Slope Center, 2465 S. Townsend Ave., Montrose, Colorado 81401. Phone (970) 240-5300.

Dated: July 15, 2003.
Barry A. Tollefson,
Acting Western Slope Center Manager.

[FR Doc. 03-29344 Filed 11-24-03; 8:45 am]

BILLING CODE 4310-JB-M